DEPARTMENT OF COMMERCE

International Trade Administration

[A-588-054, A-588-604]

Tapered Roller Bearings and Parts Thereof, Finished and Unfinished, From Japan, and Tapered Roller Bearings, Four Inches or Less in Outside Diameter, and Components Thereof, From Japan; Final Results of Antidumping Duty Administrative Reviews and Revocation in Part

AGENCY: Import Administration, International Trade Administration, Department of Commerce.

ACTION: Notice of final results of antidumping duty administrative reviews.

SUMMARY: On October 1, 1999, the Department of Commerce (the Department) published the preliminary results of the 1997-98 administrative reviews of the antidumping duty order on tapered roller bearings (TRBs) and parts thereof, finished and unfinished, from Japan (A-588-604), and the antidumping finding on TRBs, four inches or less in outside diameter, and components thereof, from Japan (A-588-054) (see Tapered Roller Bearings and Parts Thereof, Finished and Unfinished, from Japan, and Tapered Roller Bearings, Four Inches or Less in Outside Diameter, and Components Thereof, from Japan; Preliminary Results of Antidumping Duty Administrative Reviews and Intent to Revoke in Part, 64 FR 53323 (Preliminary Results). The review of the A-588-054 finding covers two manufacturers/exporters and one reseller/exporter of the subject merchandise to the United States and the period October 1, 1997, through September 30, 1998. The review of the A-588-604 order covers three manufacturers/exporters and the period October 1, 1997, through September 30, 1998. Based upon our analysis of the comments received, we have made changes in the margin calculations. The final weighted-average dumping margins for the reviewed firms are listed below in the section entitled “Final Results of Reviews.”

EFFECTIVE DATE: March 6, 2000.

FOR FURTHER INFORMATION CONTACT: Stephanie Arthur (Koyo), Charles Ranado (NSK), Deborah Scott (NTN and Fuji), or Robert James, Office of AD/CVD Enforcement III, Office 8, Import Administration, International Trade Administration, U.S. Department of Commerce, 14th Street and Constitution Avenue, NW, Washington, DC 20230, telephone: (202) 482-6312, (202) 482-3518, or (202) 482-2657, respectively.

SUPPLEMENTARY INFORMATION:

Applicable Statute and Regulations

Unless otherwise indicated, all citations to the Tariff Act of 1930, as amended (the Act), are in reference to the provisions effective January 1, 1995, the effective date of the amendments made to the Act by the Uruguay Round Agreements Act (URAA). In addition, unless otherwise indicated, all citations to the Department's regulations refer to 19 CFR part 351 (April 1, 1998).

Background

On October 1, 1999, we published in the Federal Register the preliminary results of the 1997-98 administrative reviews of the antidumping duty order and finding on TRBs from Japan (see Preliminary Results at 53323). We gave interested parties an opportunity to comment on the Preliminary Results. At the request of certain interested parties, we held a public hearing on November 16, 1999. The Department has now completed these reviews in accordance with section 751 of the Act.

Scope of the Reviews

Imports covered by the A-588-054 finding are sales or entries of TRBs, four inches or less in outside diameter when assembled, including inner race or cone assemblies and outer races or cups, sold either as a unit or separately. This merchandise is classified under Harmonized Tariff Schedule (HTS) item numbers 8482.20.00 and 8482.99.15.

Imports covered by the A-588-604 order include TRBs and parts thereof, finished and unfinished, which are flange, take-up cartridge, and hanger units incorporating TRBs, and roller housings (except pillow blocks) incorporating tapered rollers, with or without spindles, whether or not for automotive use. Products subject to the A-588-054 finding are not included within the scope of this order, except those manufactured by NTN. This merchandise is currently classifiable under HTS item numbers 8482.20.00, 8482.91.00, 8482.99.15, 8482.99.45, 8483.20.40, 8483.20.80, 8483.30.80, 8483.90.20, 8483.90.30, and 8483.90.80. The HTS item numbers listed above for both the A-588-054 finding and the A-588-604 order are provided for convenience and Customs purposes. The written description remains dispositive.

The period for each 1997-98 review is October 1, 1997, through September 30, 1998. The review of the A-588-054 case covers TRB sales by two manufacturers/exporters (Koyo and NSK) and one reseller/exporter (Fuji). The review of the A-588-604 case covers TRBs sales by three manufacturers/exporters (Koyo, NTN, and NSK).

Analysis of Comments Received

All issues raised in the case and rebuttal briefs by parties to this administrative review are addressed in the “Issues and Decision Memorandum” (Decision Memorandum) from Joseph A. Spetrini, Deputy Assistant Secretary, Import Administration, to Robert S. LaRussa, Assistant Secretary for Import Administration, dated February 28, 2000, which is hereby adopted and incorporated by reference into this notice. A list of the issues which parties have raised and to which we have responded, all of which are in the Decision Memorandum, is attached to this notice as an Appendix. Parties can find a complete discussion of all issues raised in this review and the corresponding recommendations in this public memorandum, which is on file in the Central Records Unit, room B-099 of the Main Department building (B-099).

In addition, a complete version of the Decision Memorandum can be accessed directly on the World Wide Web at www.ita.doc.gov/import_admin/records/frn/. The paper copy and electronic version of the Decision Memorandum are identical in content.

Duty Absorption

We have determined that duty absorption has occurred with respect to the following firms and with respect to the following percentages of sales which these firms made through their U.S. affiliated parties:

| Percentage of U.S. affiliates' sales with dumping margins
For the A-588-054 case:
Koyo | 16.31
NSK | 19.55
For the A-588-604 case:
Koyo | 98.08
NSK | 24.86
NTN | 29.77

For a discussion of our determination with respect to this matter, see the “Duty Absorption” section of the Decision Memorandum, accessible in B-099 and on the Web at www.ita.doc.gov/import_admin/records/frn/.

Use of Facts Available

For a discussion of comments on our application of facts available, see the “Facts Available” section of the Decision Memorandum, which is on file in B-099 and available on the Web at www.ita.doc.gov/import_admin/records/frn/. See also Preliminary Results at 53325.

Revocation

On October 1, 1999, we published in the Preliminary Results our notice of intent to revoke the A-588-054 antidumping finding in part with respect to Fuji. We gave interested parties an opportunity to comment on our intent to revoke in part. Fuji submitted comments with respect to revocation.

On October 30, 1998, Fuji submitted a request, in accordance with 19 CFR 351.222(e), that the Department revoke the finding covering TRBs from Japan with respect to its sales of this merchandise. In accordance with 19 CFR 351.222(e), this request was accompanied by certification from Fuji that it had sold the subject merchandise to the United States in commercial quantities at not less than normal value (NV) for a three-year period including the current review period,¹ and would not sell subject merchandise at less than NV in the future. Fuji also agreed to its immediate reinstatement in the relevant antidumping finding, as long as any firm is subject to the finding, if the Department concludes that, subsequent to revocation, it sold the subject merchandise at less than NV.

¹ In addition, on March 22, 1999 Fuji provided information to the Department supporting its claim that it sold TRBs to the United States in commercial quantities during this three-year period. That submission included sales information for the 1996-97 POR, during which the Department did not conduct a review of Fuji (see footnote 2). The information provided therein is consistent with the information from both the 1995-96 and current POR, and there is no evidence on the record calling into question Fuji's 1996-97 estimated sales information. Additionally, no party has raised this issue during the current review.

On the basis of Fuji's three consecutive years of exports to the United States of subject merchandise in commercial quantities with zero or de minimis margins and the lack of any indication that Fuji will sell TRBs at less than NV in the future, we have determined that Fuji is not likely to sell subject merchandise at less than NV in the future. Accordingly, we are revoking the A-588-054 finding on TRBs from Japan with respect to Fuji. See also Fuji's discussion of this issue and the Department's response under “Revocation” in the “Discussion of the Issues” section of the Decision Memorandum, accessible in B-099 and on the Web at www.ita.doc.gov/import_admin/records/frn/.

Changes Since the Preliminary Results

Based on our analysis of comments received, we have made certain changes in the margin calculations. We have also corrected certain programming and clerical errors in our preliminary results, where applicable. Any alleged programming or clerical errors with which we do not agree are discussed in the relevant sections of the Decision Memorandum, accessible in B-099 and on the Web at www.ita.doc.gov/import_admin/records/frn/.

Final Results of Reviews

We determine that the following percentage weighted-average margins exist for the period October 1, 1997 through September 30, 1998:

Manufacturer/exporter | Margin (percent)
For the A-588-054 case:
Fuji | 0.05
Koyo Seiko | 10.50
NSK | 4.07
For the A-588-604 case:
Fuji ²
Koyo Seiko | 23.36
NSK | 1.80
NTN | 17.58
² No review requested.

The Department shall determine, and Customs shall assess, antidumping duties on all appropriate entries. In accordance with 19 CFR 351.212(b), we have calculated exporter/importer-specific assessment rates. With respect to both export price and constructed export price sales, we divided the total dumping margins for the reviewed sales by the total entered value of those reviewed sales for each importer. We will direct Customs to assess the resulting percentage margins against the entered Customs values for the subject merchandise on each of that importer's entries under the relevant proceeding during the review period.

Cash Deposit Requirements

The following deposit requirements will be effective upon publication of this notice of final results of administrative review for all shipments of TRBs from Japan entered, or withdrawn from warehouse, for consumption on or after the date of publication, as provided by section 751(a)(1) of the Act: (1) The cash deposit rates for the reviewed companies will be the rates shown above except that, for firms whose weighted-average margins are less than 0.5 percent and, therefore, de minimis, the Department shall require no deposit of estimated antidumping duties; (2) for previously reviewed or investigated companies not listed above, the cash deposit rate will continue to be the company-specific rate published for the most recent period; (3) if the exporter is not a firm covered in this review, a prior review, or the original less-than-fair-value (LTFV) investigation, but the manufacturer is, the cash deposit rate will be the rate established for the most recent period for the manufacturer of the merchandise; and (4) if neither the exporter nor the manufacturer is a firm covered in these or any previous reviews conducted by the Department, the cash deposit rate will be 18.07 percent for the A-588-054 case, and 36.52 percent for the A-588-604 case (see Final Results of Antidumping Duty Administrative Reviews; Tapered Roller Bearings, Finished and Unfinished, and Parts Thereof, from Japan and Tapered Roller Bearings, Four Inches or Less in Outside Diameter, and Components Thereof, From Japan, 58 FR 64720 (December 9, 1993).

The cash deposit rate has been determined on the basis of the selling price to the first unaffiliated U.S. customer. For appraisement purposes, where information is available, the Department will use the entered value of the merchandise to determine the assessment rate. These deposit requirements shall remain in effect until publication of the final results of the next administrative review.

This notice also serves as a final reminder to importers of their responsibility under 19 CFR 351.402(f) to file a certificate regarding the reimbursement of antidumping duties prior to liquidation of the relevant entries during this review period. Failure to comply with this requirement could result in the Secretary's presumption that reimbursement of antidumping duties occurred and the subsequent assessment of doubled antidumping duties.

This notice also serves as a reminder to parties subject to administrative protective orders (APO) of their responsibility concerning the disposition of proprietary information disclosed under APO in accordance with 19 CFR 351.306. Timely written notification of the return or destruction of APO materials, or conversion to judicial protective order, is hereby requested. Failure to comply with the regulations and terms of an APO is a sanctionable violation.

We are issuing and publishing this determination and notice in accordance with sections 751(a)(1) and 771(i) of the Act and 19 CFR 351.213.

Dated: February 28, 2000.
Joseph A. Spetrini,
Acting Assistant Secretary for Import Administration.

Appendix 1—Issues in Decision Memorandum

Comments and Responses

1. Duty Absorption

2. Facts Available/Further Manufacturing

3. Revocation

4. Adjustments to Normal Value

5. Adjustments to United States Price

6. Cost of Production and Constructed Value

7. Level of Trade

8. Arm's-length Test

9. Sample Sales/High Profit Sales

10. Model Match

11. Ministerial Errors

[FR Doc. 00-5367 Filed 3-3-00; 8:45 am]

BILLING CODE 3510-DS-P